DEPARTMENT OF TRANSPORTATION

Federal Aviation Administration

14 CFR Part 39

[Docket No. 2001-NE-42-AD; Amendment 39-12882; AD 2002-19-02]

RIN 2120-AA64

Airworthiness Directives; Turbomeca S.A. Makila Models 1A, 1A1, and 1A2 Turboshaft Engines

AGENCY: Federal Aviation Administration, DOT.

ACTION: Final rule; request for comments.

SUMMARY: This amendment adopts a new airworthiness directive (AD) that is applicable to Turbomeca S.A. Makila Models 1A, 1A1, and 1A2 turboshaft engines with exhaust pipes incorporating modification TU 200A installed. This action requires visual inspections of exhaust pipes for cracks and tears, upon completion of the last flight of each day, and replacement of cracked and torn exhaust pipes before further flight. This action also requires removal from service of modification TU 200A exhaust pipes at the next shop visit or no later than a certain date. This amendment is prompted by several reports of modification TU 200A exhaust pipes cracking at several of the ejector attachment tabs. The actions specified in this AD are intended to prevent the ejector from becoming loose from the exhaust pipe, resulting in damage to the main rotor and tail rotor and loss of helicopter control.

DATES: Effective October 3, 2002.

Comments for inclusion in the Rules Docket must be received on or before November 18, 2002.

ADDRESSES: Submit comments in triplicate to the Federal Aviation Administration (FAA), New England Region, Office of the Regional Counsel, Attention: Rules Docket No. 2001-NE-42-AD, 12 New England Executive Park, Burlington, MA 01803-5299. Comments may be inspected at this location, by appointment, between 8 a.m. and 4:30 p.m., Monday through Friday, except Federal holidays. Comments may also be sent via the Internet using the following address: “9-ane-adcomment@faa.gov”. Comments sent via the Internet must contain the docket number in the subject line.

FOR FURTHER INFORMATION CONTACT: Glorianne Niebuhr, Aerospace Engineer, Engine Certification Office, FAA, Engine and Propeller Directorate, 12 New England Executive Park, Burlington, MA 01803-5299; telephone (781) 238-7132; fax (781) 238-7199.

SUPPLEMENTARY INFORMATION: The Direction Generale de L'Aviation Civile (DGAC), which is the airworthiness authority for France, recently notified the FAA that an unsafe condition may exist on Turbomeca S.A. Makila Models 1A, 1A1, and 1A2 turboshaft engines with modification TU 200A exhaust pipes installed. The exhaust pipe is composed of a primary exhaust pipe mounted on the engine, and an ejector pipe fixed on the primary exhaust pipe by eight attachment tabs. The DGAC advises that several reports were received of modification TU 200A exhaust pipes cracking at several of the ejector attachment tabs. This type of deterioration, if allowed to continue, can result in damage to the main rotor and tail rotor and loss of helicopter control. The DGAC issued AD T2001-301(A), dated July 3, 2001, and AD 2002-124(A), dated March 6, 2002, in order to assure the airworthiness of these Turbomeca S.A. Makila models 1A, 1A1, and 1A2 turboshaft engines in France.

Bilateral Airworthiness Agreement

This engine model is manufactured in France and is type certificated for operation in the United States under the provisions of § 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

FAA's Determination of an Unsafe Condition and Required Actions

Since an unsafe condition has been identified that is likely to exist or develop on other Turbomeca S.A. Makila Models 1A, 1A1, and 1A2 turboshaft engines of the same type design, this AD is being issued to prevent the ejector from becoming loose from the exhaust pipe, resulting in damage to the main rotor and tail rotor and loss of helicopter control. This AD requires visual inspections of exhaust pipes for cracks and tears, upon completion of the last flight of each day and replacement of cracked and torn exhaust pipes before further flight. This action also requires as terminating action to the repetitive inspections, removal from service of modification TU 200A exhaust pipes at the next shop visit, or no later than June 30, 2003.

Immediate Adoption of This AD

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this action must submit a self-addressed, stamped postcard on which the following statement is made: “Comments to Docket Number 2001-NE-42-AD.” The postcard will be date stamped and returned to the commenter.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

The FAA has determined that this regulation is an emergency regulation that must be issued immediately to correct an unsafe condition in aircraft, and is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-19-02 Turbomeca S.A.: Amendment 39-12882. Docket No. 2001-NE-42-AD.

Applicability

This airworthiness directive (AD) is applicable to Turbomeca S.A. Makila models 1A, 1A1, and 1A2 turboshaft engines with exhaust pipes incorporating modification TU 200A installed. These engines are installed on, but not limited to, Aerospatiale AS 332 “Super Puma Mark I” C, C1, L, L1, and “Super Puma Mark II” L2 helicopters.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (f) of this AD. The request should include an assessment of the effect of the modification, alteration, or repair on the unsafe condition addressed by this AD; and, if the unsafe condition has not been eliminated, the request should include specific proposed actions to address it.

Compliance

Compliance with this AD is required as indicated, unless already done.

To prevent the ejector from becoming loose from the exhaust pipe, resulting in damage to the main rotor and tail rotor and loss of helicopter control, do the following:

(a) Upon completion of the last flight of each day, clean and visually inspect exhaust pipes for cracks and tears, focusing on the ejector attachment tabs that connect the ejector to the primary exhaust pipe. Information on exhaust pipe inspection for Turbomeca S.A. Makila models 1A and 1A1 may be found in Engine Maintenance Manual (EMM) Section 78-10-601, and EMM Section 78-11-00 for Makila model 1A2.

(b) On exhaust pipes also incorporating modification TU 54, use a mirror placed between the engine firewall and the exhaust pipe, and visually inspect the furthest aft attachment tab, as specified in paragraph (a) of this AD.

(c) Replace exhaust pipe at the first visual sign of any exhaust pipe crack or tear before further flight. Information on exhaust pipe replacement for Turbomeca S.A. Makila models 1A and 1A1 may be found in EMM Section 78-10-401, and EMM Section 78-11-00 for Makila model 1A2.

(d) After the replacement exhaust pipe is installed, before further flight, perform engine vibration level checks to ensure all vibration levels are within manufacturer's limits. Information on vibration level checks for Turbomeca S.A. Makila models 1A and 1A1 may be found in EMM Section 71-00-601, and EMM Section 71-00-00 for Makila model 1A2.

Terminating Action

(e) Remove from service exhaust pipes incorporating modification TU 200A at the next shop visit, or no later than June 30, 2003. Removal from service constitutes terminating action to the repetitive visual inspections required by this AD. Information on removal from service may be found in Turbomeca S.A. Alert Service Bulletin No. A298 72 0148, Update No. 1, dated February 18, 2002.

Alternative Methods of Compliance

(f) An alternative method of compliance or adjustment of the compliance time that provides an acceptable level of safety may be used if approved by the Manager, Engine Certification Office (ECO). Operators must submit their requests through an appropriate FAA Principal Maintenance Inspector, who may add comments and then send it to the Manager, ECO.

Note 2: Information concerning the existence of approved alternative methods of compliance with this airworthiness directive, if any, may be obtained from the ECO.

Note 3: The subject of this AD is addressed in the Direction Generale de L'Aviation Civile airworthiness directive AD T2001-301(A), dated July 3, 2001, and AD 2002-124(A), dated March 6, 2002.

Effective Date

(g) This amendment becomes effective on October 3, 2002.

Issued in Burlington, Massachusetts, on September 9, 2002.
Jay J. Pardee,
Manager, Engine and Propeller Directorate, Aircraft Certification Service.

[FR Doc. 02-23652 Filed 9-17-02; 8:45 am]

BILLING CODE 4910-13-P